DEPARTMENT OF TRANSPORTATION

Federal Motor Carrier Safety Administration

49 CFR Part 391

[Docket No. FMCSA-2008-0362 and FMCSA-2015-0419]

Medical Review Board (MRB) Meeting: Public Meeting

AGENCY: Federal Motor Carrier Safety Administration (FMCSA), DOT.

ACTION: Advance notice of proposed rulemaking; announcement of a public MRB advisory committee meeting.

SUMMARY: FMCSA announces a meeting of its Medical Review Board (MRB) on Monday and Tuesday, August 22-23, 2016. The MRB will make recommendations to the Agency on the disposition of comments from medical professionals and associations, as well as safety advocacy, labor, and industry groups, to the Agency's and the Federal Railroad Administration's (FRA) Advance Notice of Proposed Rulemaking (ANPRM) of March 10, 2016, on safety-sensitive rail and commercial motor vehicle (CMV) drivers with moderate to severe Obstructive Sleep Apnea (OSA). Additionally, the MRB will review its previously issued report on OSA from 2012 to determine whether the report should be updated based on any changes to medical standards and practice or the comments received at the listening sessions and to the docket. Meetings are open to the public for their entirety, and the public will be allowed to comment during the proceedings.

TIMES AND DATES: The meeting will be held on Monday and Tuesday, August 22-23, 2016, from 9 a.m. to 4:30 p.m., Eastern Daylight Time (E.T.), at the FMCSA National Training Center, 1310 N. Courthouse Road, Arlington, VA, 6th floor. Copies of the task statement and an agenda for the entire meeting will be made available in advance of the meeting at www.fmcsa.dot.gov/mrb.

FOR FURTHER INFORMATION CONTACT: Ms. Shannon L. Watson, Senior Advisor to the Associate Administrator for Policy, Federal Motor Carrier Safety Administration, U.S. Department of Transportation, 1200 New Jersey Avenue SE., Washington, DC 20590, (202) 366-5221, mrb@dot.gov.

Services for Individuals With Disabilities

For information on facilities or services for individuals with disabilities or to request special assistance at the meeting, contact Eran Segev at (617) 494-3174, eran.segev@dot.gov, by Wednesday, August 17.

SUPPLEMENTARY INFORMATION:

I. Background

The MRB is composed of five medical experts who each serve 2-year terms. Section 4116 of SAFETEA-LU requires the Secretary of Transportation, with the advice of the MRB and the chief medical examiner, to establish, review, and revise “medical standards for operators of commercial motor vehicles that will ensure that the physical condition of operators of commercial motor vehicles is adequate to enable them to operate the vehicles safely.” The MRB operates in accordance with FACA under the terms of its charter, filed November 25, 2015.

II. Meeting Participation

Oral comments from the public will be heard during the meeting, subject to the discretion of the Chairman. Members of the public may submit written comments on the topics to be considered during the meeting by Wednesday, August 17, to Federal Docket Management System (FDMC) Docket Number FMCSA-2008-0362 and FMCSA-2015-0419 for the MRB using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: August 2, 2016.
Larry W. Minor,
Associate Administrator for Policy.

[FR Doc. 2016-18726 Filed 8-8-16; 8:45 am]

BILLING CODE 4910-EX-P